DEPARTMENT OF THE TREASURY

Fiscal Service

Bureau of the Fiscal Service; Senior Executive Service; Combined Performance Review Board (PRB)

AGENCY: Bureau of the Fiscal Service, Treasury.

ACTION: Notice of appointments to the Combined Performance Review Board.

SUMMARY: This notice announces the appointment of the members of the Combined Performance Review Board (PRB) for the Bureau of the Fiscal Service, the Bureau of Engraving and Printing, the United States Mint, the Alcohol and Tobacco Tax and Trade Bureau, and the Financial Crimes Enforcement Network. The Combined PRB reviews the performance appraisals of career senior executives who are below the level of bureau head and principal deputy in the bureaus, except for executives below the Assistant Commissioner/Executive Director level in the Bureau of Fiscal Service. The Combined PRB makes recommendations regarding proposed performance appraisals, ratings, bonuses, pay adjustments, and other appropriate personnel actions.

DATES: The membership of the Combined PRB as described in this Notice is effective on October 26, 2017.

FOR FURTHER INFORMATION CONTACT: Randy L. Thornton, Chief Human Capital Officer, Bureau of the Fiscal Service, (202) 874-5147.

SUPPLEMENTARY INFORMATION: Pursuant to 5 U.S.C. Section 4314(c)(4), this Notice announces the appointment of the following primary and alternate members to the Combined PRB:

Primary Members

Stephen L. Manning, Deputy Commissioner, Finance and Administration, Bureau of the Fiscal Service

David Motl, Chief Administrative Officer, United States Mint

Peter Bergstrom, Assistant Director, Management Services, Financial Crimes Enforcement Network

Marty Greiner, Deputy Director, Chief Administrative Officer, Bureau of Engraving and Printing

Mary G. Ryan, Deputy Administrator, Alcohol and Tobacco Tax and Trade Bureau

Alternate Members

Mike Linder, Assistant Commissioner/CFO, Bureau of the Fiscal Service

David Croft, Associate Director of Manufacturing, United States Mint

Amy Taylor, Assistant Director, Technology Division, Financial Crimes Enforcement Network

Debra Richardson, Associate Director, Chief Financial Officer, Bureau of Engraving and Printing

Theresa McCarthy, Assistant Administrator, Headquarter Operations, Alcohol and Tobacco Tax and Trade Bureau

Authority: 5 U.S.C. Section 4314(c)(4).

Sheryl R. Morrow,
Commissioner, Bureau of the Fiscal Service.

[FR Doc. 2017-24731 Filed 11-14-17; 8:45 am]

BILLING CODE 4810-AS-P